DEPARTMENT OF JUSTICE

Notice of Lodging of Proposed Consent Decree Under the Clean Water Act

Notice is hereby given that on June 16, 2010, a Consent Decree in United States of America, et al. v. JBS Souderton, Inc., Civil Action No. 08-5999, was lodged with the United States District Court for the Eastern District of Pennsylvania. The proposed Consent Decree obligates JBS Souderton, Inc. (“JBS”), a large beef processing and rendering facility located outside of Philadelphia, to re-construct the system that collects wastewater and conveys that wastewater to its wastewater treatment plant. The Consent Decree further obligates JBS to modernize its operation and maintenance by improving its employee training, its asset management, its recordkeeping, and its computer based monitoring systems. Finally, the Consent Decree requires JBS to pay a civil penalty of $2,000,000, $950,000 of which will be made to the federal government, $950,000 of which will be made to the Pennsylvania Department of Environmental Protection, and $100,000 of which will be made to the Pennsylvania Fish and Boat Commission. Both the Pennsylvania Department of Environmental Protection and the Pennsylvania Fish and Boat Commission are co-plaintiffs to the Consent Decree.

The Consent Decree resolves the claims asserted by the federal government in a Complaint filed in December 2008.¹ The Complaint alleged that, by discharging pollutants into the navigable waters of the United States, JBS violated Section 301 of the Clean Water Act, 33 U.S.C. 1311, and the terms of a National Pollutant Discharge Elimination System (“NPDES”) permit issued by Pennsylvania under Section 402 of the Clean Water Act, 33 U.S.C. 1342, and Section 202 of the Pennsylvania Clean Streams Law, 35 P.S. § 691.202. In particular, the Complaint alleges that, on nine separate occasions, JBS spilled untreated waste into waters of the United States, causing two fish kills. The Complaint further alleges that, on 25 separate occasions, JBS discharged into waters of the United States wastewater that contained pollutants in excess of the effluent limits set by the NPDES permit. And, the Complaint alleges that, during a five-year period, JBS failed to operate and maintain its facility in a manner that would have ensured its compliance with its obligations under federal and state environmental statutes and regulations.

¹ Both the Pennsylvania Department of Environmental Protection and the Pennsylvania Fish and Boat Commission have intervened in the case.

The Department of Justice will receive for a period of thirty (30) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States, et al. v. JBS Souderton, Inc., Civil Action No. 08-5999, DOJ # 90-5-1-1-09583.

The proposed Consent Decree may be examined at the Office of the United States Attorney for the Eastern District of Pennsylvania, 615 Chestnut Street, Suite 1250, Philadelphia, PA 19016. The consent decree also may be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.75 (25 cents per page reproduction cost for a full copy) payable to the U.S. Treasury.

Maureen Katz,
Assistant Chief, Environmental Enforcement Section, Environment and Natural Resources Division.

[FR Doc. 2010-16463 Filed 7-6-10; 8:45 am]

BILLING CODE 4410-15-P